ENVIRONMENTAL PROTECTION AGENCY

[EPA-HQ-OPP-2018-0014; FRL-9989-85]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows a July 10, 2018 Federal Register Notice of Receipt of Requests from the registrants listed in Table 3 of Unit II to voluntarily cancel and amend to terminate uses of these product registrations. In the July 10, 2018 notice, EPA indicated that it would issue an order implementing the cancellations and amendments to terminate uses, unless the Agency received substantive comments within the 180-day comment period that would merit its further review of these requests, or unless the registrants withdrew their requests. The Agency received one anonymous public comment on the notice, but it didn't merit its further review of the requests. Two registrants requested to withdraw their requests to cancel registrations. The registrant for 81964-4, requested via letter to withdraw their voluntary cancellation request. Also, the registrant for 2596-150 and 2596-151, requested via letter to withdraw their voluntary cancellation requests. Accordingly, EPA hereby issues in this notice a cancellation order granting the requested cancellations and amendments to terminate uses. Any distribution, sale, or use of the products subject to this cancellation order is permitted only in accordance with the terms of this order, including any existing stocks provisions.

DATES: The cancellations and amendments are effective March 19, 2019.

FOR FURTHER INFORMATION CONTACT: Christopher Green, Information Technology and Resources Management Division (7502P), Office of Pesticide Programs, Environmental Protection Agency, 1200 Pennsylvania Ave. NW, Washington, DC 20460-0001; telephone number: (703) 341-0367; email address: Green.Christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellations and amendments to terminate uses, as requested by registrants, of products registered under FIFRA section 3 (7 U.S.C. 136a). These registrations are listed in sequence by registration number in Tables 1 and 2 of this unit.

Table 1—Product Cancellations
Registration No. | Company No. | Product name | Active ingredients
264-736 | 264 | Bayleton Technical Fungicide | Triadimefon.
264-740 | 264 | Bayleton 50% Concentrate | Triadimefon.
264-743 | 264 | Baytan Technical | Triadimenol.
50830-1 | 50830 | The 10-Hour Insect Repellent | Diethyl toluamide.
52564-1 | 52564 | Sodium Chlorite Technical 80 PCT | Sodium chlorite.
91974-2 | 91974 | Kangaroo Old Fashioned Moth Balls | Naphthalene.
AR-130010 | 352 | DuPont Realm Q Herbicide | Mesotrione & Rimsulfuron.
AR-940002 | 59639 | Valent Bolero 8 EC | Thiobencarb.
AR-940003 | 59639 | Valent Bolero 8 EC | Thiobencarb.
AR-950004 | 59639 | Valent Bolero 8 EC | Thiobencarb.
CO-990010 | 62719 | Kerb 50W Herbicide in WSP | Propyzamide.
NC-170005 | 62719 | GF-3335 | 2,4-D, Choline salt.
OR-020029 | 62719 | Kerb 50W Herbicide in WSP | Propyzamide.
OR-040029 | 62719 | Kerb 50W Herbicide in WSP | Propyzamide.
OR-950033 | 7969 | Basagran Herbicide | Sodium bentazon.
OR-990008 | 62719 | Kerb 50W Herbicide in WSP | Propyzamide.

Table 2—Product Registration Amendments to Terminate Uses
Registration No. | Company No. | Product name | Active Ingredients | Uses to be terminated
92564-37 | 92564 | Ant & Roach Killer Pump Spray B | beta-Cyfluthrin & o-Phenylphenol, sodium salt | Outdoors.

Table 3 of this unit includes the names and addresses of record for all registrants of the products in Tables 1 and 2 of this unit, in sequence by EPA company number. This number corresponds to the first part of the EPA registration numbers of the products listed above.

Table 3—Registrants of Cancelled and Amended Products
EPA company No. | Company name and address
264 | Bayer CropScience, LP., 2 T.W. Alexander Drive, P.O. Box 12014, Research Triangle Park, NC 27709.
352 | E. I. Du Pont De Nemours and Company, Attn: Manager, US Registration, DuPont Crop Protection, Chestnut Run Plaza (CRP 720/2E5), 974 Centre Rd., Wilmington, DE 19805.
7969 | BASF Corporation, Agricultural Products, 26 Davis Drive, P.O. Box 13528, Research Triangle Park, NC 27709-3528.
50830 | Tec Laboratories, Inc., 7100 Tec Labs Way, SW, Albany, OR 97321.
52564 | Ercros, S.A., Agent Name: Laird's Regulatory Consultants, Inc., 17804 Braemar Place, Leesburg, VA 20175-7046.
59639 | Valent U.S.A., LLC., 1600 Riviera Avenue, Suite 200, Walnut Creek, CA 94596-8025.
62719 | Dow Agrosciences, LLC., 9330 Zionsville Rd., Indianapolis, IN 46268-1054.
91974 | American Eagle Home Products, LLC., P.O. Box 691072, Orlando, FL 32869.
92564 | SBM Life Science Corp., 1001 Winstead Drive, Suite 500, Cary, NC 27513.

III. Summary of Public Comments Received and Agency Response to Comments

The Agency received one anonymous public comment on the notice, but it didn't merit its further review of the request. However, two registrants requested to withdraw their requests to cancel registrations. The registrant for 81964-4, Chemstarr, LLC, requested via letter to withdraw their voluntary cancellation request for 81964-4. Also, the registrant for 2596-150 and 2596-151, The Hartz Mountain Corporation, requested via letter to withdraw their voluntary cancellation requests for 2596-150 and 2596-151: For these reasons, the Agency will not cancel these three registrations and the requests have been removed from this notice.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations that are subject of this notice is March 19, 2019. Any distribution, sale, or use of existing stocks of the products identified in Tables 1 and 2 of Unit II in a manner inconsistent with any of the provisions for disposition of existing stocks set forth in Unit VI, will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 10, 2018 (83 FR 31969) (FRL-9979-71). The comment period closed on January 7, 2019.

VI. Provisions for Disposition of Existing Stocks

Existing stocks are those stocks of registered pesticide products which are currently in the United States and which were packaged, labeled, and released for shipment prior to the effective date of the action. The existing stocks provision for the products subject to this order is as follows.

For voluntary cancellations, the registrants may continue to sell and distribute existing stocks of products listed in Table 1 until March 18, 2020, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until September 17, 2020, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: March 5, 2019.
Delores Barber,
Director, Information Technology and Resources Management Division, Office of Pesticide Programs.

[FR Doc. 2019-05157 Filed 3-18-19; 8:45 am]

BILLING CODE 6560-50-P